DEPARTMENT OF THE INTERIOR

Fish and Wildlife Service

Notice of Meetings of the Klamath Fishery Management Council

AGENCY: Fish and Wildlife Service, Interior.

ACTION: Notice of meetings.

SUMMARY: Pursuant to section 10(a)(2) of the Federal Advisory Committee Act (5 U.S.C. App. I), this notice announces three meetings of the Klamath Fishery Management Council, established under the authority of the Klamath River Basin Fishery Resources Restoration Act (16 U.S.C. 460ss et seq.). All meetings are open to the public. The Klamath Fishery Management Council makes recommendations to agencies that regulate harvest of anadromous fish in the Klamath River Basin. The objectives of these meetings are to hear technical reports, to discuss and develop Klamath fall Chinook salmon harvest management options for the 2004 season, and to make recommendations to the Pacific Fishery Management Council and other agencies.

DATES: The first meeting will be from 12 p.m. on March 1, 2004, to 5 p.m. on March 3, 2004. The second meeting will be from 8 a.m. to 5 p.m. on March 8, 2004. At the March 8, 2004, meeting, the Klamath Fishery Management Council may schedule short follow-up meetings to be held between March 9-12 at the same location. The third meeting will be from 3 p.m. to 8 p.m. on April 4, 2004. At the April 4, 2004, meeting, the Klamath Fishery Management Council may schedule short follow-up meetings to be held between April 5-9 at the same location.

ADDRESSES: The March 1-3, 2004 meeting will be held at the Yurok Tribal Headquarters, 15900 Highway 101, Klamath, California 95548. The March 8-12, 2004, meeting will be held at the Sheraton Tacoma Hotel, 1320 Broadway Plaza, Tacoma, Washington. The April 4-9, 2004, meeting will be held at the Red Lion Hotel Sacramento, 1401 Arden Way, Sacramento, California. The March, 2004, meeting in Tacoma, Washington, and the April, 2004, meeting in Sacramento, California, are held concurrent with the meetings of the Pacific Fishery Management Council.

FOR FURTHER INFORMATION CONTACT: Phil Detrich, Field Supervisor, U.S. Fish and Wildlife Service, 1829 South Oregon Street, Yreka, California 96097, telephone (530) 842-5763.

SUPPLEMENTARY INFORMATION: For background information on the Klamath Fishery Management Council, please refer to the notice of their initial meeting that appeared in the Federal Register on July 8, 1987 (52 FR 25639).

Dated: January 20, 2004.
D. Kenneth McDermond,
Acting Manager, California/Nevada Operations Office, Sacramento, CA.

[FR Doc. 04-1578 Filed 1-23-04; 8:45 am]

BILLING CODE 4310-55-P